DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Shasta McClenahan (Permit No. 14450-05 and 20532-01), Sara Young (Permit No. 16632-02 and 21856), Carrie Hubard (Permit No. 18182-01), and Amy Hapeman (Permit No. 14809-03); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
14450-05 | 0648-XS35 | NMFS Southeast Fisheries Science Center (Responsible Party: Theophilus Brainerd, Ph.D.), 75 Virginia Beach Drive, Miami, FL 33149 | 83 FR 21766; May 10, 2018 | February 6, 2019.
14809-03 | 0648-XB157 | Doug Nowacek, Ph.D., Duke University Marine Laboratory, 135 Duke Marine Lab Rd., Beaufort, NC 28516 | 81 FR 1620; January 13, 2016 | February 14, 2019.
16632-02 | 0648-XC521 | NMFS Pacific Islands Fisheries Science Center (Responsible Party: Charles Littnan, Ph.D.), 1845 Wasp Boulevard, Building 176, Honolulu, HI 96818 | 79 FR 35728; June 24, 2014 | February 6, 2019.
18182-01 | 0648-XD002 | Marilyn Mazzoil, Harbor Branch Oceanographic Institute, Florida Atlantic University, 5600 US 1 North, Ft. Pierce, FL 34946 | 79 FR 14484; March 14, 2014 | February 13, 2019.
20532-01 | 0648-XE766 | Stephen John Trumble, Ph.D., Baylor University, 101 Bagby Ave, Waco, TX 76706 | 83 FR 63631; December 11, 2018 | February 12, 2019.
21856 | 0648-XG241 | ABR, Inc. Environmental Research and Services (Responsible Party: Lauren Attanas), P.O. Box 80410, Fairbanks, AK 99708 | 83 FR 24978; May 31, 2018 | February 19, 2019.

In compliance with the National Environmental Policy Act of 1969 (42 U.S.C. 4321 et seq.), a final determination has been made that the activities proposed are categorically excluded from the requirement to prepare an environmental assessment or environmental impact statement.

For the original Permit No. 16632, in compliance with the National Environmental Policy Act of 1969 (42 U.S.C. 4321 et seq.), NMFS determined that the activities proposed were consistent with the Preferred Alternative in the Final Programmatic Environmental Impact Statement for Hawaiian Monk Seal Recovery Actions (NMFS 2014), and that issuance of the permit would not have a significant adverse impact on the human environment. The minor amendment to Permit No. 16632-02 extends the duration of the permit for one year, but does not change any other terms or conditions of the permit and no additional NEPA analysis was required.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: March 18, 2019.
Julia Marie Harrison,
Chief, Permits and Conservation Division, Office of Protected Resources, National Marine Fisheries Service.

[FR Doc. 2019-05441 Filed 3-21-19; 8:45 am]

BILLING CODE 3510-22-P